DEPARTMENT OF THE TREASURY

United States Mint

Notification of Citizens Coinage Advisory Committee April 8, 2014, Public Meeting.

ACTION: Notification of Citizens Coinage Advisory Committee April 8, 2014, Public Meeting.

SUMMARY: Pursuant to United States Code, Title 31, section 5135(b)(8)(C), the United States Mint announces the Citizens Coinage Advisory Committee (CCAC) public meeting scheduled for April 8, 2014.

Date: April 8, 2014.

Time: 2:00 p.m. to 4:00 p.m.

Location: This meeting will occur via teleconference. Interested members of the public may attend the meeting at the United States Mint; 801 9th Street NW., Washington, DC, Conference Room A.

Subject: Discussion of potential recommendation to change the reverse design of the American Eagle Silver $1 Bullion Coin, and discussion and potential recommendation to recommend designs for national medals.

Interested persons should call the CCAC HOTLINE at (202) 354-7502 for the latest update on meeting time and room location.

In accordance with 31 U.S.C. 5135, the CCAC:

Advises the Secretary of the Treasury on any theme or design proposals relating to circulating coinage, bullion coinage, Congressional Gold Medals, and national and other medals.

Advises the Secretary of the Treasury with regard to the events, persons, or places to be commemorated by the issuance of commemorative coins in each of the five calendar years succeeding the year in which a commemorative coin designation is made.

Makes recommendations with respect to the mintage level for any commemorative coin recommended.

FOR FURTHER INFORMATION CONTACT: William Norton, United States Mint Liaison to the CCAC; 801 9th Street NW., Washington, DC 20220; or call 202-354-7200.

Any member of the public interested in submitting matters for the CCAC's consideration is invited to submit them by fax to the following number: 202-756-6525.

Authority: 31 U.S.C. § 5135(b)(8)(C).

Dated: March 31, 2014.
Richard A. Peterson,
Deputy Director, United States Mint.

[FR Doc. 2014-07588 Filed 4-3-14; 8:45 am]

BILLING CODE 4810-37-P